DEPARTMENT OF ENERGY

Federal Energy Regulatory Commission

Notice of Amendment of License and Soliciting Comments, Motions To Intervene, and Protests

February 17, 2000.

Take notice that the following application has been filed with the Commission and is available for public inspection.

a. Type of Application: Amendment of license for the modification of license Article 401.

b. Project No. 2582-016.

c. Dates Filed: January 27 and 31, 2000.

d. Applicant: Rochester Gas and Electric Corporation.

e. Name of Project: Station 2 Project.

f. Location: Genesee River in the city of Rochester, Monroe County, New York.

g. Filed Pursuant to: Federal Power Act, 16 U.S.C. § 791(a)-825(r).

h. Applicant Contact: Mr. Hugh J. Ives, Hydro License Coordinator, Rochester Gas and Electric Corporation, 89 East Avenue, Rochester, NY 14649-0001, (716) 724-8209, e-mail address: Hugh_ives@rge.com.

i. FERC Contact: Any questions on this notice should be addressed to Jim Haimes at (202) 219-2780, or e-mail address: james.haimes@ferc.fed.us.

j. Deadline for filing comments and or motions: 30 days from the issuance date of this notice. All documents should be filed by providing an original and eight copies, as required by the Commission's regulations, to: David P. Boergers, Secretary, Federal Energy Regulatory Commission, 888 First Street, NE, Washington, DC 20426.

Please include the project name and number (Station 2 Project, No. 2482-016) on any comments or motions filed.

k. Description of Amendment: License Article 401 of the existing license, issued February 22, 1996, requires the licensee: (1) to operate the subject hydropower project in a modified run-of-river mode whereby flows downstream of the project tailrace approximate inflows to the project reservoir; and (2) to maintain the elevation of the project's 16-acre impoundment between 482.3 and 482.9 feet mean sea level (msl). Therefore, the reservoir elevation is currently authorized to fluctuate up to 0.6-foot per day.

Further, license Article 402 requires the licensee to release from the Station 2 dam into the project's bypass reach: (1) a continuous flow of at least 300 cubic feet per second (cfs) between 11:00 a.m. and 11 p.m. daily; and (2) a continuous flow of at least 25 cfs between 11:00 p.m. and 11:00 a.m. daily, or inflow, whichever is less. The 300 cfs releases provide a veil flow over the 90-foot-high Upper Falls, an important local aesthetic resource located immediately downstream of the project dam.

The subject filing indicates that the license-mandated reservoir elevation range has made it difficult to generate hydropower efficiently while at the same time providing the required veil flow. These operating difficulties have resulted in significant excess spillage and, consequently, generation loss of 1 to 2 megawatts per hour for 40 percent of the year. For example, with river flows between 1,500 cfs and 3,000 cfs, and the maximum allowable reservoir elevation set at 482.9 feet msl, the licensee can only provide the required 300 cfs veil flow by opening the dam gates, which results in generation loss.

To remedy this situation, the licensee proposes to provide the required veil flow by usually maintaining a minimum reservoir elevation of 483.3 feet msl, which would result in the spillage of 300 cfs over the dam gates. Infrequently, the licensee would provide the veil flow by raising one or more gates. When this method is used, the elevation of the impoundment would be maintained at not less than 482.3 feet msl. Lastly, between 11:00 p.m. and 11:00 a.m., when bypass flow may consist only of dam leakage of 25 cfs, the licensee would maintain the reservoir elevation at not less than 482.3 feet msl. Thus, under the proposed operating regime, the reservoir elevation could fluctuate by one foot per day, from 482.3 to 483.3 feet msl.

l. Locations of application: Copies of the application are available for inspection and reproduction at the Commission's Public Reference Room, located at 888 First Street, NE, Room 2A, Washington, DC 20426, or by calling (202) 208-1371. The application also may be viewed on the Web at www.ferc.fed.us/online/rims.htm. Call (202) 208-2222 for assistance. Copies of the application also are available for inspection and reproduction at the addresses in item h above.

m. Individuals desiring to be included on the Commission's mailing list for the proposed amendment of license should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”. “PROTEST”, OR “MOTION TO INTERVENE”, as applicable, and the Project Number of the particular application to which the filing refers. Any of the above-named documents must be filed by providing the original and the number of copies provided by the Commission's regulations to: The Secretary, Federal Energy Regulatory Commission, 888 First Street, N.W., Washington, D.C. 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-4321 Filed 2-23-00; 8:45 am]

BILLING CODE 6717-01-M